DEPARTMENT OF THE TREASURY

Senior Executive Service; Departmental Offices Performance Review Board Members

AGENCY: Treasury Department.

ACTION: Notice of members of the Departmental Offices Performances Review Board.

SUMMARY: Pursuant to 5 U.S.C. 4314(c)(4), this notice announces the appointment of members of the Departmental Offices Performance Review Board (PRB). The purpose of this Board is to review and make recommendations concerning proposed performance appraisals, ratings, bonuses and other appropriate personnel actions for incumbents of SES positions in the Departmental Offices, excluding the Legal Division. The Board will perform PRB functions for other bureau positions if requested.

Composition of Departmental Offices PRB: The Board shall consist of at least three members. In the case of an appraisal of a career appointee, more than half the members shall consist of career appointees. The names and titles of the Board members are as follows:

• Baukol, Andy P., Deputy Assistant Secretary for Mid-East and Africa

• Banks, Carol, Director, Office of Accounting and Internal Controls

• Blair, Anita K., Deputy Assistant Secretary for Human Resources and Chief Human Capital Officer

• Bynum, Nicole, Chief of Management Operations for the Office of Financial Stability

• Cavella, Charles J., Deputy Assistant Secretary for Security

• Cole, Lorraine, Director, Office of Minority and Women Inclusion

• Corwin, Manal S., Deputy Assistant Secretary for International Tax Affairs

• Dohner, Robert S., Deputy Assistant Secretary for South and East Asia

• East, Robyn C., Deputy Assistant Secretary and Chief Information Officer

• Gerardi, Geraldine, Director for Business and International Taxation

• Hammerle, Barbara C., Deputy Director, Office of Foreign Assets Control

• Hampl, Eric E., Director, Executive Office of Asset Forfeiture

• Harvey, Mariam G., Associate Chief Human Capital Officer for Civil Rights and Diversity

• Jaskowiak, Mark M., Deputy Assistant Secretary for Investment Security

• Johnson, Nicole, Associate Chief Human Capital Officer for Human Capital Strategic Management

• Madon, Michael P., Deputy Assistant Secretary for Intelligence Community Integration

• McDonald, William L., Deputy Assistant Secretary for Technical Assistance Policy

• McGlynn, Arthur D., Deputy Assistant Secretary for Analysis and Production

• Ostrowski, Nancy, Director, Office of DC Pensions

• Pabotoy, Barbara, Associate Chief Human Capital Officer for Human Capital Services

• Reger, Mark Anthony, Deputy Assistant Secretary for Accounting Policy

• Roth, Dorrice, Deputy Chief Financial Officer

• Sharpe, Thomas A., Director, Office of Procurement

• Sobel, Mark D., Deputy Assistant Secretary for International Monetary and Financial Policy

• Steele, Charles M., Associate Director, Office of Enforcement, Office of Foreign Assets Control

DATES: Effective Date: Membership is effective on the date of this notice.

FOR FURTHER INFORMATION CONTACT: Mario R. Minor, Senior Human Resources Specialist, 1500 Pennsylvania Avenue NW., ATTN: Room 6W529, 6th Floor, Washington, DC 20220, Telephone: 202-622-0774.

This notice does not meet the Department's criteria for significant regulations.

Barbara B. Pabotoy,
Associate Chief Human Capital Officer, Human Capital Services.

[FR Doc. 2012-25308 Filed 10-15-12; 8:45 am]

BILLING CODE 4810-25-P